DEPARTMENT OF DEFENSE

Department of the Army; Corps of Engineers

Intent To Prepare an Environmental Impact Statement for the Chesapeake Bay Native Oyster Recovery Project, Maryland

AGENCY: Department of the Army, U.S. Army Corps of Engineers, DOD.

ACTION: Notice of intent.

SUMMARY: In accordance with the National Environmental Policy Act (NEPA), the U.S. Army Corps of Engineers (Corps), Baltimore District, is preparing a Draft Environmental Impact Statement (DEIS) for the upper Chesapeake Bay waters. This DEIS is a part of the 10 year plan for the Chesapeake Bay native oyster recovery project in cooperation with the Maryland Department of Natural Resources as the local sponsor. The feasibility study will include the final EIS.

ADDRESSES: Questions and comments about the meetings, feasibility study, and/or EIS can be addressed to Ms. Jean Kapusnick, Baltimore District, U.S. Army Corps of Engineers, ATTN: CENAB-PL-P, P.O. Box 1715, Baltimore, Maryland, 21203-1715. E-mail address: jean.a.kapusnick@usace.army.mil. Please include your name and address in your message.

The U.S. Army Corps of Engineers, Norfolk District will address activities in Virginia waters. Please contact Mr. Mark Mansfield, U.S. Army Corps of Engineers, 803 Front Street, Norfolk, VA 23510-1096. E-mail: Mark.T.Mansfield@usace.army.mil. Phone: 757-441-7500.

FOR FURTHER INFORMATION CONTACT: Ms. Jean Kapusnick, phone: (410) 962-4417 or (800) 295-1610.

SUPPLEMENTARY INFORMATION: Previously performed oyster restoration activities by the Baltimore District include the: creation of new oyster bars and rehabilitation of existing non-productive bars; construction of seed bars for production and collection of seed oysters or “spat”; planting of hatchery-produced and seed bar spat on new and rehabilitated bars;a nd monitoring of implemented projects. The actions considered in the forthcoming oyster recovery study and DEIS may include those actions or other actions that are considered feasible to reach the projects restoration goals.

The decision to implement actions will be based on an evaluation of the probable impact of the proposed activities on the public interest. That decision will reflect the national concern for both protection and utilization of important resources. The benefit, which reasonably may be expected to accrue from the proposal, will be balanced against its reasonablyt foreseeable costs and impacts. The Baltimore District is preparing a DEIS, which will describe the impacts of the proposed projects on environmental and cultural resources in the study area and on the overall public interest. The DEIS will be prepared in accordance with NEPA and will document all factors that may be relevant to the proposal, including the cumulative effects therof. Among these factors are habitat restoration, channel and erosion control, improvements to water quality, storm water management, conservation, economics, energy needs, general environmental concerns, fish and wildlife values, wetlands, historic and cultural values, navigation, shoreline erosion and accretion, flood hazards, flood plain values, land use, recreation, safety, food production, and, in general, the needs and welfare of the people. the work will not be accomplished unless it is found to be in the public interests. If applicable, the DEIS will comply with the U.S. Environmental Protection Agency's Guidelines fo the Specification of Disposal Sites for Dredged or Fill Material issued under the authority of Seciton 404(b)(1) of the Clean Water Act of 1977 (Pub. L. 95-217).

Public involvement activities for the study will include coordination with interested private individuals and organizations, as well as with concerned Federal, state and local agencies. Coordination letters and newsletters will be sent to appropriate agencies, organizations, and individuals on an extensive mailing list. Additional public information will be provided through printed media, mailings, radio and television announcements. Public scoping meetings will be held in January 2005. Further information concerning dates and locations will be distributed at a later date.

In addition to the Corps, other participants that will be involved in the study and DEIS process include the following: Maryland Department of Natural Resources, National Oceanic and Atmospheric Administration (NOAA), EPA Region III, EPA Chesapeake Bay Program, U.S. Fish and Wildlife Service, national Marine Fisheries Service, Maryland Department of the Environment, Maryland Historical Trust, the Maryland Oyster Roundtable, and the oyster Recovery Partnership. The Baltimore District invites potentially affected Federal, State, and local agencies, and other organizations and entities to participate in this study.

The DEIS will be prepared in accordance with 91) The National Environmental Policy Act (NEPA) of 1969, as amended (42 U.S.C. 4321 et seq.), (2) regulations of the Council on Environmental Quality for implementing the procedural provisions of NEPA (40 CFR parts 1500-1508), and (3) USACE regulations implementing NEPA (ER-200-2-2).

Jean Kapusnick,
Study Manager.

[FR Doc. 04-26136 Filed 11-24-04; 8:45 am]

BILLING CODE 3710-41-M